ENVIRONMENTAL PROTECTION AGENCY

[FRL-9518-2]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 2311.01; Pesticide Program Public Sector Collections (FIFRA Sections 18 amp; 24(c)); 40 CFR parts 162 and 166; was approved on 05/14/2012; OMB Number 2070-0182; expires on 05/31/2015; Approved with change.

EPA ICR Number 1039.13; Monthly Progress Reports (Renewal); 48 CFR 1552.211; was approved on 05/15/2012; OMB Number 2030-0005; expires on 05/31/2015; Approved without change.

EPA ICR Number 0801.18; Requirements for Generators, Transporters, and Waste Management Facilities under the RCRA Hazardous Waste Manifest System (Renewal); 40 CFR parts 262, 263, 264 and 265; was approved on 05/15/2012; OMB Number 2050-0039; expires on 05/31/2015; Approved without change.

EPA ICR Number 1167.10; NSPS for Lime Manufacturing; 40 CFR part 60 subparts A and HH; was approved on 05/15/2012; OMB Number 2060-0063; expires on 05/31/2015; Approved without change.

EPA ICR Number 1748.09; State Small Business Stationary Source Technical and Environmental Compliance Assistance Programs (SBTCP) Annual Reporting Form (Renewal); was approved on 05/15/2012; OMB Number 2060-0337; expires on 05/31/2015; Approved without change.

EPA ICR Number 1127.10; NSPS for Hot Mix Asphalt Facilities; 40 CFR part 60 subparts A and I; was approved on 05/15/2012; OMB Number 2060-0083; expires on 05/31/2015; Approved without change.

EPA ICR Number 1811.07; NESHAP for Polyether Polyols Production; 40 CFR part 63 subparts A and PPP; was approved on 05/15/2012; OMB Number 2060-0415; expires on 05/31/2015; Approved without change.

EPA ICR Number 1081.10; NESHAP for Inorganic Arsenic Emissions from Glass Manufacturing Plants; 40 CFR part 61 subparts A and N; was approved on 05/15/2012; OMB Number 2060-0043; expires on 05/31/2015; Approved without change.

EPA ICR Number 2326.02; Effluent Guidelines and Standards for the Airport Deicing Category (Final Rule); 40 CFR 449.10(a); was approved on 05/16/2012; OMB Number 2040-0285; expires on 03/31/2015; Approved without change.

EPA ICR Number 0959.14; Facility Ground-Water Monitoring Requirements (Renewal); 40 CFR 264.98, 264.99 and 264.100, 265.90, 265.91, 265.92, 265.93 and 265.94; was approved on 05/17/2012; OMB Number 2050-0033; expires on 05/31/2015; Approved without change.

EPA ICR Number 1964.05; NESHAP for Wet-Formed Fiberglass Mat Production; 40 CFR part 63 subparts A and HHHH; was approved on 05/29/2012; OMB Number 2060-0496; expires on 05/31/2015; Approved without change.

EPA ICR Number 0246.11; Contractor Cumulative Claim and Reconciliation (Renewal); was approved on 05/29/2012; OMB Number 2030-0016; expires on 05/31/2015; Approved without change.

EPA ICR Number 1695.12; Emissions Certification and Compliance Requirements for Marine and Nonroad Spark-ignition Engines (Transfer Burden from 2060-0321); 40 CFR parts 90, 1048, 1051, 1065 and 1065; 40 CFR 91.105, 91.107, 91.121, 91.122, 91.124, 91.208, 91.209, 91.504(a), 91.509(e), 91.804, and 91.805; was approved on 05/30/2012; OMB Number 2060-0338; expires on 08/31/2012; Approved without change.

Withdrawn and Continue

EPA ICR Number 2127.02; Conditional Exclusions from Solid Waste and Hazardous Waste for Solvent-Contaminated Wipes (Final Rule); Withdrawn from OMB on 05/01/2012.

Short Term Approval

EPA ICR Number 2288.03; Pesticides Data Call In Program; was granted a short term approval by OMB on 05/30/2012; OMB Number 2070-0174; expires on 11/30/2012.

John Moses,
Director, Collections Strategies Division.

[FR Doc. 2012-15314 Filed 6-21-12; 8:45 am]

BILLING CODE 6560-50-P